DEPARTMENT OF TRANSPORTATION

Federal Railroad Administration

[Docket Number FRA-2018-0069]

Petition for Waiver of Compliance

Under part 211 of Title 49 Code of Federal Regulations (CFR), this provides the public notice that by letter dated August 14, 2018, CSX Transportation, Inc. (CSXT) petitioned the Federal Railroad Administration (FRA) for a waiver of compliance from certain provisions of the Federal railroad safety regulations contained at 49 CFR part 234. FRA assigned the petition Docket Number FRA-2018-0069.

CSXT seeks a waiver of compliance from 49 CFR 234.247, Purpose of inspections and tests; removal from service of relay or device failing to meet test requirements, to remove approximately 400 stored rail cars and certain railbound equipment from CSXT's Illinois Subdivision, which is currently discontinued from service between milepost (MP) BC 244.7, near Flora, Clay County, Illinois, and MP BC 327.9, near Caseyville, St. Clair County, pursuant to the Surface Transportation Board's issuance of two Discontinuance of Service Exemptions dated December 10, 2015 and January 9, 2017, respectively. CSXT notes that numerous communities have raised concerns and requested it remove the stored rail cars and rail-bound equipment.

CSXT states that no revenue traffic has moved on the discontinued portion of the Illinois Subdivision since June of 2016. Because CSXT has no current intention of resuming revenue service on this Subdivision, CSXT seeks this relief to remove the cars and rail-bound equipment from its tracks as expeditiously as possible. Specifically, CSXT seeks relief to operate over non-functioning highway-rail grade crossings without making inspections and tests required in §§ 234.249 through 234.271. To ameliorate any safety concerns, CSXT will make all train moves at 10 miles per hour or less and during daylight hours, work with local authorities to obtain permission to close the roadway at impacted crossings, and will station an employee at each impacted crossing to provide waring to approaching highway traffic and communicate with motorists as needed.

A copy of the petition, as well as any written communications concerning the petition, is available for review online at www.regulations.gov and in person at the U.S. Department of Transportation's Docket Operations Facility, 1200 New Jersey Avenue SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Avenue SE, W12-140, Washington, DC 20590.

• Hand Delivery: 1200 New Jersey Avenue SE, Room W12-140, Washington, DC 20590, between 9 a.m. and 5 p.m., Monday through Friday, except Federal Holidays.

Communications received by October 19, 2018 will be considered by FRA before final action is taken. Comments received after that date will be considered if practicable.

Anyone can search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dotransportation.gov/privacy. See also http://www.regulations.gov/#!privacyNotice for the privacy notice of regulations.gov.

Robert C. Lauby,
Associate Administrator for Safety, Chief Safety Officer.

[FR Doc. 2018-19106 Filed 8-31-18; 8:45 am]

BILLING CODE 4910-06-P